DEPARTMENT OF ENERGY

Federal Energy Regulatory Commission

[Docket No. CP03-101-000]

Dominion Transmission, Inc.; Notice of Application

April 18, 2003.

On April 16, 2003, Dominion Transmission, Inc. (DTI), 445 West Main Street, Clarksburg, West Virginia 26301, filed in Docket No. CP03-101-000, an application pursuant to section 7(b) of the Natural Gas Act (NGA), as amended, and part 157 of the regulations of the Federal Energy Regulatory Commission (Commission), for authorization to abandon Well 932 in the Fink Kennedy Storage Complex in Lewis County, West Virginia, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

DTI states that Well 932 is located in the Fink Kennedy Storage Pool located in Lewis County, West Virginia and has been operational as a storage well since 1943. According to DTI, the operational capabilities of the Fink Kennedy Storage Complex will not be affected by the plugging and abandonment of this storage well.

DTI states that it will abandon 185 feet of Line H-18227. DTI states that the abandonment of this line will be performed under the Commission's part 157 pipeline blanket certificate program and the blanket authorization DTI received in Docket No. CP82-537-000, and will be reported as part of DTI's part 157 Annual Report.

DTI states that the abandonment of Well 932 involves only the removal of minor surface facilities and appropriate erosion control and site restoration will be implemented at the well site. Earth disturbance will be limited to the area immediately around the wellbore and placing a monument at the site to indicate the location of the well. DTI states that all work will be confined to the original well pad site on previously disturbed ground and the well location will be restored to its original state or landowner's preference.

DTI states that due to its age and condition, Well 932 was placed in idle service on February 22, 2003. DTI states that Well 932 is not necessary for the continued operation of the Fink Kennedy Storage Pool and that the remediation of the well necessary for the useful operation is neither feasible nor economically efficient.

Any questions concerning this application may be directed to Sean R. Sleigh, Certificates Manager, Dominion Transmission, Inc., 120 Tredegar Street, Richmond, Virginia 23219, at (304) 627-3462 or fax (304) 627-3305.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: April 25, 2003.

Magalie R. Salas,
Secretary.

[FR Doc. 03-10202 Filed 4-23-03; 8:45 am]

BILLING CODE 6717-01-P